DEPARTMENT OF THE INTERIOR

Bureau of Land Management

[AZ-930-1430-ET; AZA 9131 et al.]

Expiration of Forest Service Withdrawals and Opening of Lands; Arizona

AGENCY: Bureau of Land Management, Interior.

ACTION: Notice.

SUMMARY: Four public land orders, which withdrew National Forest System lands from mining, have expired. This action will open the lands to mining.

EFFECTIVE DATE: April 11, 2003.

FOR FURTHER INFORMATION CONTACT: Cliff Yardley, BLM Arizona State Office, 222 North Central Avenue, Phoenix, Arizona 85004-2203, 602-417-9437.

SUPPLEMENTARY INFORMATION: 1. The following public land orders (PLOs), which withdrew National Forest System lands for the areas listed below, have expired:

PLO | Serial No. | Area name | Expired | Acres
5719 | AZA 9131 | Elden Pueblo Medicine Fort Ridge Ruin Le Barron Ruin | 4/30/2000 | 351
5750 | AZA 9590 | Red Mtn. Geological Area | 8/27/2000 | 1,908
5753 | AZA 9510 | Turkey Hills Pueblo Arch. Site | 9/25/2000 | 55
5754 | AZA 10215 | Rocky Mtn. Experiment Station | 9/25/2000 | 20

2. Copies of the public land orders for the expired withdrawals, showing the lands involved, are available at the BLM Arizona State Office (address above).

3. At 10 a.m. on April 11, 2003, the lands withdrawn by the public land orders listed above will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: January 17, 2003.
Steven J. Gobat,
Acting Deputy State Director, Resources Division.

[FR Doc. 03-5833 Filed 3-11-03; 8:45 am]

BILLING CODE 3410-11-P